DEPARTMENT OF COMMERCE

International Trade Administration

[A-570-905]

First Administrative Review of Certain Polyester Staple Fiber From the People's Republic of China: Final Results of Antidumping Duty Administrative Review

AGENCY: Import Administration, International Trade Administration, Department of Commerce.

SUMMARY: On July 7, 2009, the Department of Commerce (“Department”) published in the Federal Register the preliminary results of the first administrative review of the antidumping duty order on certain polyester staple fiber (“PSF”) from the People's Republic of China (“PRC”). See Certain Polyester Staple Fiber from the People's Republic of China: Notice of Preliminary Results of the Antidumping Duty Administrative Review and Extension of Time Limit for the Final Results, 74 FR 32125 (July 7, 2009) (“Preliminary Results”). The period of review (“POR”) is from December 26, 2006, through May 31, 2008, for 27 companies.¹

¹ Those companies are: Far Eastern Industries, Ltd., (Shanghai) and Far Eastern Polychem Industries; Ningbo Dafa Chemical Fiber Co., Ltd.; Cixi Sansheng Chemical Fiber Co., Ltd.; Cixi Santai Chemical Fiber Co., Ltd.; Cixi Waysun Chemical Fiber Co., Ltd.; Hangzhou Best Chemical Fibre Co., Ltd.; Hangzhou Hanbang Chemical Fibre Co., Ltd.; Hangzhou Huachuang Co., Ltd.; Hangzhou Sanxin Paper Co., Ltd.; Hangzhou Taifu Textile Fiber Co., Ltd.; Jiaxing Fuda Chemical Fibre Factory; Nantong Loulai Chemical Fiber Co., Ltd.; Nanyang Textile Co., Ltd.; Suzhou PolyFiber Co., Ltd.; Xiamen Xianglu Chemical Fiber Co.; Zhaoqing Tifo New Fiber Co., Ltd.; Zhejiang Anshun Pettechs Fibre Co., Ltd.; Zhejiang Waysun Chemical Fiber Co., Ltd.; Dragon Max Trading Development; Xiake Color Spinning Co., Ltd.; Jiangyin Hailun Chemical Fiber Co., Ltd.; Hyosung Singapore PTE Ltd.; Jiangyin Changlong Chemical Fiber Co., Ltd.; Ma Ha Company, Ltd.; Jiangyin Huahong Chemical Fiber Co., Ltd.; Jiangyin Mighty Chemical Fiber Co., Ltd.; and Huvis Sichuan.

We gave interested parties an opportunity to comment on the Preliminary Results. Based upon our analysis of the comments and information received, we made changes to the dumping margin calculations for the final results. See Memorandum to the File from Emeka Chukwudebe, Case Analyst, through Alex Villanueva, Program Manager, Final Results Analysis for Ningbo Dafa Chemical Fiber Co., Ltd. (“Ningbo Dafa”) (December 11, 2009); and Memorandum to the File from Emeka Chukwudebe, Case Analyst, through Alex Villanueva, Program Manager, Final Results Analysis for Cixi Santai Chemical Fiber Co., Ltd. (“Santai”) (December 11, 2009). The final dumping margins are listed below in the section entitled “Final Results of Review.”

DATES: Effective Date: January 11, 2010.

FOR FURTHER INFORMATION CONTACT: Emeka Chukwudebe (Ningbo Dafa), or Alexis Polovina (Santai) AD/CVD Operations, Office 9, Import Administration, International Trade Administration, U.S. Department of Commerce, 14th Street and Constitution Avenue, NW., Washington, DC 20230; telephone: (202) 482-0219 and (202) 482-3927, respectively.

SUPPLEMENTARY INFORMATION:

Background

As noted above, on July 7, 2009, the Department published the Preliminary Results of this administrative review where we also extended the deadline for the final results by 60 days. See Preliminary Results. On July 27, 2009, Ningbo Dafa submitted additional surrogate value information. On October 20, 2009, Petitioners ² and Respondents submitted case briefs. On October 26, 2009, Petitioners and Respondents submitted rebuttal briefs.

² DAK Americas LLC and Nan Ya Plastics Corporation America.

Scope of the Order

The merchandise subject to this proceeding is synthetic staple fibers, not carded, combed or otherwise processed for spinning, of polyesters measuring 3.3 decitex (3 denier, inclusive) or more in diameter. This merchandise is cut to lengths varying from one inch (25 mm) to five inches (127 mm). The subject merchandise may be coated, usually with silicon or other finish, or not coated. PSF is generally used as stuffing in sleeping bags, mattresses, ski jackets, comforters, cushions, pillows, and furniture.

The following products are excluded from the scope: (1) PSF of less than 3.3 decitex (less than 3 denier) currently classifiable in the Harmonized Tariff Schedule of the United States (“HTSUS”) at subheading 5503.20.0025 and known to the industry as PSF for spinning and generally used in woven and knit applications to produce textile and apparel products; (2) PSF of 10 to 18 denier that are cut to lengths of 6 to 8 inches and that are generally used in the manufacture of carpeting; and (3) low-melt PSF defined as a bi-component fiber with an outer, non-polyester sheath that melts at a significantly lower temperature than its inner polyester core (classified at HTSUS 5503.20.0015).

Certain PSF is classifiable under the HTSUS subheadings 5503.20.0045 and 5503.20.0065. Although the HTSUS subheadings are provided for convenience and customs purposes, the written description of the merchandise under the orders is dispositive.

Verification

Pursuant to section 351.307(b)(iv) of the Department's regulations, we conducted verifications of respondents' questionnaire responses.³

³ Between August 31, 2009, and September 4, 2009, we conducted a verification of Santai. See “Memorandum to the File through Alex Villanueva, Program Manager, Office 9, from Alexis Polovina, Case Analyst, Office 9, and Emeka Chukwudebe, Case Analyst, Office 9, re: Verification of the Sales and Processing Response of Cixi Santai Chemical Fiber Co., Ltd. in the Antidumping Administrative Review of Certain Polyester from the People's Republic of China,” dated October 7, 2009. Between September 5, 2009, and September 11, 2009, we conducted a verification of Ningbo Dafa. See “Memorandum to the File through Alex Villanueva, Program Manager, Office 9, from Emeka Chukwudebe, Case Analyst, Office 9, and Alexis Polovina, Case Analyst, Office 9, re: Verification of the Sales and Factors Response of Ningbo Dafa Chemical Fiber Co., Ltd. (“Ningbo Dafa”) in the Antidumping First Administrative Review of Certain Polyester Staple Fiber (“PSF”) from the People's Republic of China (“China”),” dated October 8, 2009.

Analysis of Comments Received

All issues raised in the case and rebuttal briefs by parties to these reviews are addressed in the “First Antidumping Administrative Review of Certain Polyester Staple Fiber from the People's Republic of China: Issues and Decision Memorandum for the Final Results,” (“Decision Memo”), which is hereby adopted by this notice. A list of the issues which parties raised and to which we respond in the Decision Memo is attached to this notice as an Appendix. The Decision Memo is a public document and is on file in the Central Records Unit (“CRU”), Main Commerce Building, Room 1117, and is accessible on the Department's Web site at http://www.trade.gov/ia. The paper copy and electronic version of the memorandum are identical in content.

Separate Rates

In the Preliminary Results, we determined that the following companies met the criteria for separate rate status: Far Eastern Industries, Ltd., (Shanghai) and Far Eastern Polychem Industries; Cixi Sansheng Chemical Fiber Co., Ltd.; Cixi Waysun Chemical Fiber Co. Ltd., Hangzhou Best Chemical Fibre Co., Ltd.; Hangzhou Hanbang Chemical Fibre Co., Ltd.; Hangzhou Huachuang Co., Ltd.; Hangzhou Sanxin Paper Co., Ltd.; Hangzhou Taifu Textile Fiber Co., Ltd.; Jiaxing Fuda Chemical Fibre Factory; Nantong Loulai Chemical Fiber Co., Ltd.; Nanyang Textile Co., Ltd.; Xiamen Xianglu Chemical Fiber Co.; Zhaoqing Tifo New Fiber Co., Ltd.; Zhejiang Anshun Pettechs Fibre Co., Ltd.; and Zhejiang Waysun Chemical Fiber Co., Ltd. We received no comments on the Department's preliminary finding that these companies qualify for a separate rate. Therefore, for the final results, these companies will continue to receive the separate rate.

In the Preliminary Results, we stated that the following 10 companies did not submit either a separate-rate application or certification: Dragon Max Trading Development; Xiake Color Spinning Co., Ltd.; Jiangyin Hailun Chemical Fiber Co., Ltd.; Hyosung Singapore PTE Ltd.; Jiangyin Changlong Chemical Fiber Co., Ltd.; Ma Ha Company, Ltd.; Jiangyin Huahong Chemical Fiber Co., Ltd.; Jiangyin Mighty Chemical Fiber Co., Ltd.; Huvis Sichuan; and Suzhou PolyFiber Co., Ltd. We received no comments on the Department's preliminary finding that these 10 companies do not qualify for a separate rate. Therefore, for the final results, these companies will remain part of the PRC-wide entity and subject to the PRC-wide entity rate.

Changes Since the Preliminary Results

Based on a review of the record as well as comments received from parties regarding our Preliminary Results, we have made revisions to the margin calculation for Ningbo Dafa and Santai in the final results. Specifically, we have updated the surrogate value for steam coal. See Decision Memo at Comment 1a. For all changes to the calculations of Ningbo Dafa and Santai, see the Decision Memo and company specific analysis memoranda.

Final Results of Review

The weighted-average dumping margins for the POR are as follows:

Certain Polyester Staple Fiber From the People's Republic of China
Manufacturer/exporter | Weighted average margin (percent)
Ningbo Dafa Chemical Fiber Co., Ltd | 0.00
Cixi Santai Chemical Fiber Co | * 0.02
Far Eastern Polychem Industries | 4.44
Cixi Sansheng Chemical Fiber Co., Ltd | 4.44
Cixi Waysun Chemical Fiber Co. Ltd | 4.44
Hangzhou Best Chemical Fibre Co., Ltd | 4.44
Hangzhou Hanbang Chemical Fibre Co., Ltd | 4.44
Hangzhou Huachuang Co., Ltd | 4.44
Hangzhou Sanxin Paper Co., Ltd | 4.44
Hangzhou Taifu Textile Fiber Co., Ltd | 4.44
Jiaxing Fuda Chemical Fibre Factory | 4.44
Nantong Loulai Chemical Fiber Co., Ltd | 4.44
Nanyang Textile Co., Ltd | 4.44
Xiamen Xianglu Chemical Fiber Co | 4.44
Zhaoqing Tifo New Fiber Co., Ltd | 4.44
Zhejiang Anshun Pettechs Fibre Co., Ltd | 4.44
Zhejiang Waysun Chemical Fiber Co., Ltd | 4.44
PRC-Wide Rate | 44.30
* De minimis.

Assessment Rates

Upon issuance of these final results, the Department will determine, and U.S. Customs and Border Protection (“CBP”) shall assess, antidumping duties on all appropriate entries covered by these reviews. The Department intends to issue assessment instructions to CBP 15 days after the publication date of the final results of this review. Furthermore, we will instruct CBP to liquidate entries for all companies at the company-specific rate required at the time of entry. In accordance with 751(a)(2)(A) of the Tariff Act of 1930 (“Act”) and 19 CFR 351.212(b)(1), we calculated importer (or customer)-specific assessment rates for the merchandise subject to this review. Where the respondent has reported reliable entered values, we calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importers'/customers' entries during the POR. Id.

For the companies receiving a separate rate that were not selected for individual review, the assessment rate will be based on the rate from the investigation pursuant to section 735(c)(5)(B) of the Act.

Cash Deposit Requirements

The following cash deposit requirements will be effective upon publication of these final results of administrative review for all shipments of the subject merchandise entered, or withdrawn from warehouse, for consumption on or after the publication date, as provided for by section 751(a)(2)(C) of the Act: (1) For the exporters listed above, the cash deposit rate will be established in the final results of this review (except, if the rate is zero or de minimis, i.e., less than 0.5 percent, no cash deposit will be required for that company); (2) for previously investigated PRC and non-PRC exporters not listed above that have separate rates, the cash deposit rate will continue to be the exporter-specific rate published for the most recent period; (3) for all PRC exporters of subject merchandise which have not been found to be entitled to a separate rate, the cash deposit rate will be the PRC-wide rate of 44.30 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: January 4, 2010.
Ronald K. Lorentzen,
Deputy Assistant Secretary for Import Administration.

Appendix I—Decision Memorandum

General Issues

Comment 1: Surrogate Values.

A. Steam Coal.

B. Labor.

Comment 2: Separate Rate.

Comment 3: Liquidation of Certain Entries.

Company-Specific Issues

Ningbo Dafa

Comment 4: Negotiation Files for Purchases of Bottle Flakes and Sales of PSF.

Comment 5: Invoice Numbering System.

Jianxin Fuda Chemical Fibre Factory.

Comment 6: Correction of Name in Federal Register Notice.

[FR Doc. 2010-275 Filed 1-6-10; 8:45 am]

BILLING CODE P